DEPARTMENT OF HOUSING AND URBAN DEVELOPMENT

[Docket No. FR-4558-N-06]

Mortgagee Review Board; Administrative Actions

AGENCY: Office of the Assistant Secretary for Housing-Federal Housing Commissioner, HUD.

ACTION: Notice.

SUMMARY: In compliance with Section 202(c) of the National Housing Act, notice is hereby given of the cause and description of administrative actions taken by HUD's Mortgagee Review Board against HUD-approved mortgagees.

FOR FURTHER INFORMATION CONTACT: Phillip A. Murray, Director, Office of Lender Activities and Program Compliance, Room B-133-3214 Plaza, 451 7th Street, SW., Washington, DC 20410, telephone: (202) 708-1515. (This is not a toll-free number.) A Telecommunications Device for Hearing and Speech-Individuals (TTY) is available at 1-800-877-8339 (Federal Information Relay Service).

SUPPLEMENTARY INFORMATION: Section 202(c)(5) of the National Housing Act (added by Section 142 of the Department of Housing and Urban Development Reform Act of 1989, Public Law 101-235, approved December 15, 1989), requires that HUD publish a description of and the cause for administrative actions against a HUD-approved mortgagee by the Department's Mortgagee Review Board. In compliance with the requirements of Section 202(c)(5), notice is hereby given of administrative actions that have been taken by the Mortgagee Review Board from April 1, 2000 through March 31, 2001.

1. Title I Lenders and Title II Mortgagees That Failed To Comply With HUD/FHA Requirements for the Submission of an Audited Annual Financial Statement and/or Payment of the Annual Recertification Fee

Action: Withdrawal of HUD/FHA Title I lender approval and Title II mortgagee approval.

Cause: Failure to submit to the Department the required annual audited financial statement, an acceptable annual audited financial statement, and/or remit the required annual recertification fee.

Title 1 Lenders and Loan Correspondents Terminated Between April 1, 2000 and March 31, 2001
Name | City | State
Abn Amro Mortgage Group Inc | Troy | MI
Advanced Mortgage Investment Co Inc | Miami | FL
Affiliated Mortgage Service Inc | Rancho Cucamonga | CA
Affordable Mortgage Inc | Phoenix | AZ
Ahfund Inc | St. Petersburg | FL
AKT Mortgage Group Inc | Anaheim Hills | CA
All American Mortgage | Naperville | IL
All American Mortgage Inc | Seattle | WA
All-America Mortgage Corp | Burr Ridge | IL
Allen Mortgage Corporation | Sandy | UT
Alliance Mortgage Corporation | Villa Park | IL
Allstar Loan Co | Irving | CA
Allstate Financial Co Inc | Artesia | CA
Alta Loma Financial Corporation | Rancho Cucamonga | CA
Altoona Federal Savings and Ln | Altoona | PA
Alwayz Mortgage Services Inc | Schaumburg | IL
American Advantage Mortgage | Edina | MN
American Continental Funding Corp | Whittier | CA
American Diversified Funding Inc | Temecula | CA
American Home Loans Express | Downey | CA
American Mortgage Securities Inc | Clearwater | FL
Americapital Funding Corp | Birmingham | AL
America's Senior Financial Services Inc | Miami Lakes | FL
Amerifed Mortgage Corporation | Minnetonka | MN
Amerifirst Mortgage Group Inc | Fairlawn | OH
Amerus Life Insurance Co | Des Moines | IA
Amfirst Bank NA | McCook | NE
Anchor Mortgage Corporation | Chicago | IL
Annwin Inc | Huntington Beach | CA
Apex Mortgage Inc | Dallas | TX
Arizona Family Mortgage | Phoenix | AZ
Assurance Mortgage Corporation | Orlando | FL
Atlantic Vanguard Mortgage | Altamonte Springs | FL
ATO Financial Inc | Fremont | CA
Austin Funding Com Corporation | Austin | TX
Avstar Mortgage Corporation | Blue Bell | PA
Baker Boyer National Bank | Walla Walla | WA
Bank of New York | New York City | NY
Bank of South Dakota | Watertown | SD
Bankers Investment Group | Lake Forest | CA
Bankfirst Financial Services | Macon | MS
Banking Mortgage Srvs BMS Corp | Coral Gables | FL
Best Mortgage Inc | Gladstone | MO
Best MTG Corporation | Walnut | CA
Boatmen's National Bank NW IA | Spencer | IA
Bright Financial Corp | Walnut | CA
Brookside Mortgage Inc | Los Angeles | CA
Cal Coast Mortgage Corporation | San Diego | CA
California Lending Group | Irvine | CA
Calmco Servicing LP | Austin | TX
Capital Bank | Houston | TX
Capital Plus Financial | San Diego | CA
Cardinal Financial Company | Trevose | PA
Casa Americana Mortgage Inc | Arcadia | CA
Casa Mortgage Inc | Encino | CA
Cashnet Financial Group Inc | Plano | TX
CB Towne Center Financial | Cerritos | CA
Central Park Capital LP | Atlanta | GA
CF Financial | Lodi | CA
Champion Credit Corporation | San Diego | CA
Channel Islands National Bank | Oxnard | CA
Chappelow Mortgage Co Inc | Indianapolis | IN
Chatham Savings Bank FSB | Chatham | NJ
CHE Management Inc | Cerritos | CA
Cherry Burrell Employees C U | Cedar Rapids | IA
Chess Financial Services Inc | Camp Springs | MD
Citizens Bank of Western Indiana | Terre Haute | IN
Citizens First Mortgage Co | Winter Park | FL
Citizens Mortgage Corp | Fairfax | VA
City Holding Company | Charleston | WV
City Mortgage Corporation | Pittsburgh | PA
City National Bank and Trust | Gloversville | NY
Cityscape Corporation | Elmsford | NY
CMAL Inc | Tampa | FL
CMS Financial LLP | Camp Springs | MD
Coast Partners Investors Corp | San Francisco | CA
Coast Partners Lending Corporation | San Francisco | CA
Colonial National Bancorp | Anaheim | CA
Combustion Federal Credit UN | Chattanooga | TN
Commander Financial Corp | Dallas | TX
Commercial State Bank | Wagner | SD
Commonwealth Capital Mortgage Corp | Birmingham | AL
Community Bank Cleveland | Saint Peter | MN
Community Banks NA | Millersburg | PA
Community First State Bank | Alliance | NE
Community Mortgage Corporation | Cordova | TN
Community National MTG Corp | Ponte Vedra Beach | FL
Consolidated Funding Corp | Winter Park | FL
Consolidated Home Loans | Oceanside | CA
Consumer Mortgage Corporation | Brentwood | TN
Continental Pacific Capital and Financia | Tarzana | CA
Coppertree Mortgage and Financial Inc | Mesa | AZ
County Savings Bank | Columbus | OH
Creative Mortgage and Equity Corp | Calumet City | IL
Custom Home Mortgage LLC | Gilbert | AZ
CVT Properties INC DBA Prime Financial | Coata Mesa | CA
CW Financial Inc | Dana Point | CA
D and D Funding Inc | Los Angeles | CA
Dan Cavallo Inc | Riverside | CA
Delanco Federal Savings Bank | Delanco | NJ
Discount Mortgage Inc | Pearl | MS
Dynamic Mortgage Financial Corp | Garden Grove | CA
Eight Hundred Real Key | Chino | CA
Eldorado Bank | Sacramento | CA
Emmco The Mortgage Service Station | Lexington | SC
E-Mortgage Inc | York | PA
ENM Mortgage Inc | Downey | CA
Enterprise Mortgage Corp | Virginia Beach | VA
Equity Income | Glendale | CA
Equity Mortgage Company | Slidell | LA
Evergreen Bank NA | Glen Falls | NY
Excmont Corporation | San Jose | CA
F and M Bank | Fennimore | WI
F and M Bank | Omro | WI
F and M Bank-Northeast | Pulaski | WI
Fairway Employees Credit Union | Northfield | MN
Faith Financial Services | Woodland Hills | CA
Family Home Mortgage Corp | Spokane | WA
Farmers And Merchants Bank | Tomah | WI
FCMC Inc | Boulder | CO
Federal Guaranty Mortgage Co Inc | Coral Gables | FL
Fidelity Union Mortgage Corp C | Christiansted | VI
Fifth Third Bank Indiana | St Joseph | MI
First American Capital Mortgage Corp | Longwood | FL
First Atlantic Mortgage Corporation | Richmond | VA
First Bancorp Mortgage Corp | Yorktown | VA
First Bank Florida | West Palm Beach | FL
First Bank of Liberal | Liberal | KS
First Bank of the Americas | Chicago | IL
First Capital Group Inc | Miami | FL
First Colonial Mortgage Inc | Sherman | TX
First Equity Lenders Inc | West Palm Beach | FL
First Federal Savings Bank | New Castle | PA
First Heritage Financial Corporation | Denver | CO
First Home Acceptance MTG Corp | San Diego | CA
First Keystone Mortgage Inc | Kimberton | PA
First Mortgage Corporation | Tempe | AZ
First National Bank | Florence | AL
First National Bank | Hawley | MN
First National Bank | Mahnomen | MN
First National Bank | Gallatin | MO
First National Bank | Philip | SD
First National Bank | Darlington | WI
First National Bank And TR Vinita | Vinita | OK
First National Bank Fairmount | Fairmount | IL
First National Bank Manatee | Brackenton | FL
First National Bank River FLS | River Falls | WI
First National Bank Yuma | Yuma | CO
First National Funding Group | West Covina | CA
First National Security Corporation | Beaumont | TX
First Northern Bank of Dixon | Davis | CA
First Republic Mortgage | Santa Ana | CA
First Sierra Mortgage Inc | Sacramento | CA
First State Bank | Rush City | MN
First Virginia Bank | Grafton | VA
First West Realty Ser Corp | Arroyo Grande | CA
First Western Bank NA | New Castle | PA
First Western Mortgage Co of Amer Inc | Englewood | CO
Firstline Funding Inc | Irvine | CA
Flagship Capital Services Corp | Sacramento | CA
Florida Preferred Mortgage Inc | North Miami Beach | FL
Foothill Financial Services Inc | Tustin | CA
Forest Kraft Fed Credit Union | West Monroe | LA
Forum Express Home Loans Inc | Laguna Hills | CA
Fox Cities Bank FSB | Oshkosh | WI
Freeport Financial Group Inc | Westlake Village | CA
Frestan Financial Holding Corp | Phoenix | AZ
Friendly Hills Mortgage Corp | Whittier | CA
Frontier Funding Corp | Los Angeles | CA
Garfield Mortgage Corp | Glen Ellyn | IL
General Mortgage Acceptance Corp | Orange | CA
GFC Corporation | Tustin | CA
Girard National Bank | Girard | KS
Glacier Hills Credit Union | West Bend | WI
Goldpoint Mortgage Bankers Inc | Great Neck | NY
Goodrich Mortgage Inc | Newport Beach | CA
Great American Capital Corp | Costa Mesa | CA
Great Country Mortgage Bankers Corp | Miami | FL
Great Eastern Financial Services | Atlanta | GA
Hacienda Lenders Inc | Murrieta | CA
Hampton Mortgage Inc | Irvine | CA
Heritage Mtg Inc | Diamond Bar | CA
Hiawatha National Bank | Glenwood City | WI
HMC Home Mortgage Consultants Inc | Houston | TX
Home America Financial Inc | Orange | CA
Home Improvement Mortgage Inc | Phoenix | AZ
Home Mortgage Center Inc | Alexandria | VA
Home Mortgage Loans Treasure Coast | Miami | FL
Homesave Mortgage Corporation | Fullerton | CA
Homesense Financial Corp | Lexington | SC
Hometrust Mortgage Inc | Atlanta | GA
Houston Federal Credit Union | Sugar Land | TX
Infinity Capital Corporation | Newport Beach | CA
International Bank of Commerce | Laredo | TX
Interwest Mortgage | Reno | NV
Jamaica Savings Bank FSB | Lynbrook | NY
Jan-Ron Financial Corp | Torrance | CA
Johnson and Associates Mortgage Co | Birmingham | AL
JRM Investment Corp | Brunswick | GA
JVR Inc | Fremont | CA
K Hovnanian Mortgage Inc | Red Bank | NJ
Key Bank and Trust | Owings Mills | MD
KeyBank National Association | Portland | OR
Keystone Financial Bank NA | Pottsville | PA
KGW Corporation | Lake Forest | CA
Kislak National Bank | North Miami | FL
Kit Albert Inc | Woodland Hills | CA
KMG Mortgage Services Inc | Mission Viejo | CA
La Crescent State Bank | La Crescnt | MN
Labe Federal Bank for Savings | Chicago | IL
Laffranchini Financial Corp | Palm Desert | CA
Laswell Inc | Cerritos | CA
Lauren Financial Services Inc | Huntington Beach | CA
Ledoux Investments Inc | Rancho Cucamonga | CA
Liberty Mortgage Finance Services Inc | Davie | FL
Lincoln Financial Mortgage Corp | Seminole | FL
Long Island Savings Bank FSB | Melville | NY
LP California Mortgage Inc | Newport Beach | CA
Macomb Schools—Government CR | Clinton Township | MI
Madera Financial Inc | Tucson | AZ
Magellan Mortgage Corporation | Irvine | CA
Mandrell Mortgage | Las Vegas | NV
Maple Park Mortgage Company | St Charles | IL
Marble George and McGinley Inc | Orange | CA
Marina Mortgage Company Inc | Irvine | CA
MCA Mortgage Corporation | Southfield | MI
McKeesport Hospital EMP FED CU | McKeesport | PA
Mercantile Bank NA | Navada | MO
Metropolitan Financial Corp | Phoenix | AZ
Metropolitan State Bank | Montville | NJ
MFG Funding Inc | La Habra | CA
MFK Financial Corporation | San Francisco | CA
Midland Federal Savings and LN | Bridgeview | IL
MIGLP LP | Knoxville | TN
Millennium Mortgage Corp | West Palm Beach | FL
Mirage Financial Service | North Miami Beach | FL
Missouri State Bank and Trust | St Louis | MO
Money First Financial Services Inc | Las Vegas | NV
Mortgage America Inc | Allentown | PA
Mortgage Capital Finan Servces | Calverton | MD
Mortgage Clinic Inc | Pembroke Pines | FL
Mortgage Investors of Orlando Corp | Orlando | FL
Mortgage Plus Equity and Loan Corp | Melville | NY
Mortgage Plus Inc | Grand Rapids | MI
Mortgage Store LLC | Franklin | TN
Mortgagelink Inc | Newport Beach | CA
Mundaca Financial Services LLC | Franklin | TN
Mutual Savings Bank FSB | Bay City | MI
National Bank | Gatesville | TX
National Bank Commerce Trust Svgs Assn | Lincoln | NE
National Bank Redwoods NA | Santa Rosa | CA
National Charter Mortgage Corporation | Cerritos | CA
National Home Funding Corp | Calabasas | CA
NCS Mortgage Services LLC | Norcross | GA
New Hope Funding | Ontario | CA
New West Financial Services Inc | Covina | CA
Newport Shores Financial Inc | Aliso Viejo | CA
NME National Mortgage Executive Inc | Scottsdale | AZ
North American Bank and Trust Co | Waterbury | CT
North Star Residential Mtg | Castaica | CA
Northeastern Mortgage Investment Corp | Tarrytown | NY
Northwest Savings Bank | Amery | WI
Northwoods Bank of Minnesota | Park Rapids | MN
Ober Financial Corporation | Victorville | CA
Ocean West Enterprises Inc | Tustin | CA
Oceanside Mortgage Corporation | Huntington Beach | CA
Old Century Mortgage Corporation | Los Angeles | CA
Old City Mortgage | Covina | CA
One Stop Mortgage Inc | Irvine | CA
One Valley Bank NA | Charleston | WV
One Valley Bk of Oak Hill Inc | Oak Hill | WV
Orion National Equity Corp | Irvine | CA
Oro Real Inc | Fremont | CA
Ottuma Postal Employees Cu | Ottumwa | IA
Pacific Coast Financial Service | San Clemente | CA
Pacific First Fin Re Est Ln Inc | Torrance | CA
Pacific Northwest Funding Group | Palm Springs | CA
Pacific Southwest Bank FSB | Corpus Christi | TX
Pan American Finan Svcs Inc | Chicago | IL
Pappadakis Corporation | Jacksonville | FL
Peninsula Mortgage Bankers Corp | Coral Gables | FL
Peoples Mortgage Corporation | Colorado Springs | CO
Performance Plus Mortgage Corporation | Tucson | AZ
Pierucci Inc | Glen Mills | PA
Plaza Residential Mortgage | Riverside | CA
Precision Financial Inc | Tustin | CA
Precision Funding | Corona | CA
Premier Associates Mortgage Co | Temecula | CA
Professional American Mortgage Inst Inc | Sunrise | FL
Progressive Loan Funding | Seal Beach | CA
Prosource Mortgage Corp | Avon | CO
Prosperity Mortgage Corporation | Inglewood | CA
Pt Ilta Karya Investment Inc | Hacienda Heights | CA
Re Mortgage Group Inc | Anaheim Hills | CA
RealCo Funding and Properties | Inglewood | CA
Rengar Mortgage Inc | Downey | CA
Republic Home Loan Corp | Los Gatos | CA
Residential Lending Profession | San Diego | CA
Residential Mortgage Corp | Las Vegas | NV
Residential Mortgage Services Inc | South Portland | ME
Resource Financial Services Inc | Anaheim Hills | CA
Revird Corporation | Santa Fe Springs | CA
Richard and Mike's Calabasas | Calabasas | CA
Richard Thomas Mortgage | Laguna Niguel | CA
Richmond County Savings Bank | Staten Island | NY
RKL Mortgage Services Inc | Newport Beach | CA
Roosevelt Savings Bank | Garden City | NY
Sacramento Valley Mortgage Corp | Fair Oaks | CA
Saddleback Investment Services Inc | Laguna | CA
San Diego First Bank | San Diego | CA
Scott Residential Services Inc | Citrus Heights | CA
Seascape Finance Inc | Vero Beach | FL
Security Lending Wholesale LC | Salt Lake City | UT
SFI Federal Credit Union | Veron | CA
Shore Bank and Trust | Cleveland | OH
Shorette Mortgage Inc | Winter Haven | FL
Silverback Mortgage Inc | Los Angeles | CA
Simi Valley Financial Cntr Inc | Simi Valley | CA
Smomlo Inc | Mission Hills | CA
Socal Financial Group Inc | San Diego | CA
Source One Mortgage Corporation | Farmington Hills | MI
Southern California Funding Inc | Laguna Hills | CA
Southland Lending Services | Huntington Beach | CA
Southwest Lending LLC | Phoenix | AZ
Southwest Research Center FCU | San Antonio | TX
Sovereign Bank FSB | Wyomissing | PA
St Paul FederaL Bk For Savings | Chicago | IL
Stauffers Brokerage Inc | Ventura | CA
Sterling Home Realty and Fin Srvcs Inc | Long Beach | CA
Sterling Lending Corporation | Baton Rouge | LA
Stoneridge Mortgage Corp | San Diego | CA
Stuart-Wright Mortgage Inc | La Palma | CA
Suburban Federal Savings FSB | Harvey | IL
Sunstate Mortgage Inc | Daytona Beach | FL
T L C Financial Corporation | Elizabeth | NJ
TG Mortgage Inc | Aliso Viejo | CA
The Co-Operative Bank | Roslindale | MA
The-Trust Deed Corporation | Laguna Niguel | CA
Time Deposits Int'l Inc | Van Nuys | CA
TMI Acceptance Corp | Austin | TX
TNT Financial Inc | Chino | CA
Towne Center Properties Inc | Cerritos | CA
Trenton Savings Bank | Trenton | NJ
Tri City National Bank | Oak Creek | WI
Tri County Mortgage Co Inc | Corbin | KY
Two Rivers Federal CU | Johnson City | NY
U S E Community Services Group | Downey | CA
U S Savings Bank | Las Vegas | NV
Union Deposit Loan and Inv Bk | North Providence | RI
Union Planters National Bank | Clinton | TN
United California Lenders Corporation | Tustin | CA
United Midwest Savings Bank | Degraff | OH
United Mortgage Corp | Hauppauge | NY
Universal Lending Group Inc II | Baltimore | MD
Vanleeuwen Pye and Associates Inc | San Diego | CA
Vasquez Mims and Associates Inc | San Diego | CA
Vendl Financial Corporation | Walnut Creek | CA
Venture Mortgage Inc | Atlanta | GA
Viking Bank | Moorhead | MN
Wachovia Bank NA | Winston Salem | NC
Walden Savings Bank | Walden | NY
Westview Financial Co Inc | San Jose | CA
Westwood Homestead Savings Bank | Cincinnati | OH
Wholesale Capital Corp | Moreno Valley | CA
Wright Patt Credit Union | Fairborn | OH
Yorktown Mortgage and Fin Corp | Fullerton | CA

Title 2 Mortgagees and Loan Correspondents Terminated Between April 1, 2000 and March 31, 2001
Name | City | State
A and B Mortgage Inc | Spokane | WA
A H L Inc | Roseburg | OR
A S H Elite Funding Corporation | Culver City | CA
AAA Mortgage Advisors Inc | Orlando | FL
AACE Mortgage Services LLC | Berthoud | CO
AADUS Plus Financial | Palatine | IL
AAmericorp Mortgage Services | Dyer | IN
AArrow Mortgage Group Inc | Lancaster | PA
AB Mortgage | Dallas | TX
Abbey Mortgage and Investments Inc | Denver | CO
Abbey Park Inc | Lenexa | KS
Accelerated Mortgage | Salt Lake City | UT
Acceptance Mortgage Corp | Southfield | MI
ACG Financial Srvs IMC Inc | Dallas | TX
Advanced Financial Services Inc | Fairlawn | OH
Advanced Mortgage Inv Co Inc | Miami | FL
Advantage Real Estate LLC | Springfield | VA
Advest Bank | Hartford | CT
Affiliated Mortgage Service Inc | Rancho Cucamonga | CA
Affordable Mortgage Inc | Phoenix | AZ
AFS Mortgage Inc | Washington | DC
AGRA Capital Corporation | Towson | MD
Ahfund Inc | St. Petersburg | FL
AKT Mortgage Group Inc | Anaheim Hills | CA
All American Mortgage Company | Billings | MT
All American Mortgage Corp | Miami Shores | FL
All Florida Mortgage Inc | Davie | FL
All Home Mortgage LP | Hanford | CA
All Source Lending Inc | Wilsonville | OR
Alliance Mortgage Inc | Seattle | WA
Allpro Mortgage LLC | South Jordan | UT
Allstate Financial Co Inc | Artesia | CA
Allstate Home Mortgage Inc | Raleigh | NC
Alpha Mortgage Corp | Denver | CO
Alta Loma Financial Corp | Rancho Cucamonga | CA
Altoona Federal Savings and Loan Assn | Altoona | PA
Alwayz Mortgage Services Inc | Schaumburg | Il
Ambassador Mortgage Corp | Turnersville | NJ
Americal Funding Inc | Pleasanton | CA
American Advantgage Mtg Fin Cor | Edina | MN
American Capital Corporation | Indianapolis | IN
American Capitol Financial Corp | Landover | MD
American Diversified Funding | Temecula | CA
American Dream Mortgage Inc | Bedford | TX
American Family Mortgage | Hazelwood | MO
American Federal Lending Inc | Denver | CO
American First Funding Corp | Salt Lake City | UT
American Funding Exchange Inc | Scottsdale | AZ
American Liberty Capital | Irvine | CA
American Mortgage Funding Corp | Atlanta | GA
American Mortgage Funding Corporation | Portland | ME
American Mortgage Network Corp | Park Forest | IL
American Mortgage Reduction Inc | Owings Mills | MD
American Mortgage Securities Inc | Clearwater | FL
American National Bank | Oakland Park | FL
American Republic Mortgage Co | Costa Mesa | CA
American Residential Mortgage | Maplewood | MN
American Savings Mortgage Co Inc | Honolulu | HI
American West Mortgage Corp | Salt Lake City | UT
Americanet Mortgage Corporation | Laguna Hills | CA
Americapital Funding Corporation | Hoover | AL
Americas Cashline Corp | Scottsdale | AZ
Americas Lender Inc | Irvine | CA
Amerifed Mortgage Corporation | Saint Louis Park | MN
Amerifirst Mortgage Group Inc | Fairlawn | OH
Amerimark Mortgage Corp | Glen Ellyn | IL
Amerinet Mortgage Services Corporation | Austin | TX
Ameristone Mortgage Corporation | Braintree | MA
Amerus Life Insurance Co | Des Moines | IA
Amwest Mortgage LLC | Denver | CO
Anderson Community Bank | Anderson | IN
Annwin Inc | Huntington Beach | CA
Apex Mortgage Inc | Dallas | TX
Apple Tree Mortgage Inc | Kingsport | TN
Application Processing Inc | San Antonio | TX
Approved Mortgage Company | Oak Forest | IL
Approved Mortgage Corp | Portland | OR
Arc Financial Group Inc | Marlton | NJ
Arizona Family Mortgage | Phoenix | AZ
Arlington Federal Credit Union | Arlington | TX
Arrowhead Mortgage Company | Milford | OH
Arvest Bank | Shawnee | OK
Aspen Mortgage Inc | Simi Valley | CA
Assurance Mortgage Corporation | Orlando | FL
Atlantic Finance And Credit | Howell | NJ
Atlantic Mortgage Corp | Fort Lauderdale | FL
Ato Financial Inc | Fremont | CA
Aurora Mortgage Corporation | West Palm Beach | FL
Aurora Mortgage Inc | Auburn | WA
Aurora National Bank | Aurora | IL
Austin Funding Com Corporation | Austin | TX
Avemco Corporation | Frederick | MD
Balanced Mortgage Corp | Indianapolis | IN
Bank of Elkins | Elkins | AR
Bank of Hanover and Trust Co | Hanover | PA
Bank of Lake County | Lakeport | CA
Bank of Las Vegas | Las Vegas | NM
Bank of McCrory | McCrory | AR
Bank of Murfreesboro | Murfreesboro | TN
Bank of Pocahontas | Pocahontas | AR
Bank of Raleigh | Beckley | WV
Bank of Western Massachusetts | Springfield | MA
Bank of York | York | SC
Bank of Pensacola | Pensacola | FL
Bank Street Mortgage Company | Baltimore | MD
Bankers Mortgage Associates Inc | Plantation | FL
Bankers Mortgage Corp | Evanston | IL
Banking Mortgage Srvs Bms Corp | Coral Gables | FL
Barrington Mortgage Company Inc | Jackson | MS
Bayport Financial Incorporated | Rancho Cucamonga | CA
Bayshore Mortgage LLC | Milwaukee | WI
Beacon Mortgage Services LLC | Lawrenceville | GA
Bedford Financial Inc | Byron Center | MI
Bell Financial Group Inc | Saint Petersburg | FL
Ben Snyder Mortgage Corp | Fort Worth | TX
Best Home Loans Incorporated | Ridgecrest | CA
Best MTG Corporation | Walnut | CA
BFG Inc | Nashville | TN
Blue Ribbon Financial LLC | Rapid City | SD
Blue Sky Mortgage LLC | Nashville | TN
Boeing Employees Credit Union | Tukwila | WA
Bomac Home Mortgage Inc | Dallas | TX
Bridgemore Financial Inc | Plano | TX
Britten Enterprises Inc | Auburn | WA
Brodon Holdings Inc | Santa Monica | CA
Brookside Mortgage Inc | Los Angeles | CA
Brucha Mortgage Bankers Corp | Brooklyn | NY
Buckeye Mortgage Banc Corp | Kettering | OH
Buyers Choice Mortgage Service Inc | Hagerstown | MD
California Lending Group | Irvine | CA
Calmco Servicing LP | Austin | TX
Calumet Federal Savings ALA | Dolton | IL
Cameron Mortgage Company | Jacksonville | FL
Campbell And Campbell LLC | Greenfield | WI
Cannondale Financial LLC | Wilton | CT
Capcon Financial Services Inc | Cupertino | CA
Capital Direct Mortgage Inc | Sacramento | CA
Capital Funding of South Florida Inc | Palm City | FL
Capital Mortgage Network Inc | Palos Heights | IL
Capital Plus Financl Corp | San Diego | CA
Capital Savings Co Inc | Raleigh | NC
Cardinal Mortgage Company Inc | Los Angeles | CA
Carey Kramer Silvester Assoc | Weston | FL
Caribbean Home Mortgage Corp | Brooklyn | NY
Carolina Mortgage Network Inc | Aiken | SC
Casa Mortgage Inc | Encino | CA
Cascade Pacific Mortgage Co | Vancouver | WA
Cashnet Financial Group Inc | Plano | TX
Castle Mortgage Inc | Oak Brook | IL
Catlettsburg Federal Saving and ln Assoc | Catlettsburg | KY
CB and T Bank of Russell Cnty | Phenix City | AL
CDK Mortgage Inc | Naperville | IL
Censtar Financial Inc | Independence | OH
Centennial Banc Share Corp | Denver | CO
Centennial Funding Corporation | Puyallup | WA
Centennial Savings Bank | Durango | CO
Central National Bank | Canajoharie | NY
Centurion Bancorp | Los Angeles | CA
Century Bank | Columbus | OH
Century Mortgage LP | Dallas | TX
Certified Home Loans Inc | Miami | FL
Certified Mortgage Associates | Marlboro | NJ
CFE Mortgage Corporation | Pasadena | CA
Challenge Mortgage Corporation | Hinsdale | IL
Champion Credit Corporation | San Diego | CA
Chappelow Mortgage Co | Indianapolis | IN
Chatham Savings and Loan Assn | Chatham | NJ
Che Management Inc | Cerritos | CA
Cherry Tree Mortgage | Indianapolis | IN
Choice Mortgage Services Inc | Lockport | IL
Citadel Mortgage Banc Corp | Columbus | OH
Citizens Bank Central Indiana | Greenwood | IN
Citizens Bank Illinois NA | Mount Vernon | IL
Citizens Bank Jasper | Jasper | IN
Citizens Bank Kentucky | Madisonville | KY
Citizens Bank of Oviedo | Oviedo | FL
Citizens Bank Western Indiana | Terre Haute | IN
Citizens First Mortgage | Winter Park | FL
Citizens Mortgage Corp | Fairfax | VA
Citizens National Bank | Evansville | IN
Citizens National Bank | Canton | OH
Citizens National Bank | Fort Worth | TX
Citizens National Bank of Texas | Bellaire | TX
Citizens State Bank | Oakland | IA
Citizens State Bank | Shakopee | MN
Citizens State Bank | Paola | KS
City Finance Inc | Chicago | IL
City Wide Financial Group Inc | Broomfield | CO
Cityscape Corp | Elmsford | NY
CLB LLC | Boise | ID
CMAL Inc | Tampa | FL
Coast Mortgage Corporation | Sea Bright | NJ
Coastal Fidelity Mortgage Corp | Carlsbad | CA
Coastline Mortgage Inc | Boca Raton | FL
Colonial Mortgage Group LLC | Bethesda | MD
Commercial Bank of Florida | Miami | FL
Commonwealth PA State Empl Ret | Philadelphia | PA
Community Commerce Bank | Los Angeles | CA
Community First Bank | Lansing | MI
Community Home Buyers Club Incorporated | Los Angeles | CA
Community Loan Center Inc | St George | UT
Community National Mtg Corp | Ponte Vedra Beach | FL
Compass Financial Corp | Denver | CO
Compass Mortgage | Huntington Beach | CA
Consolidated Funding Corp | Winter Park | FL
Consolidated Home Loans | Oceanside | CA
Consumer Equity Corporation | Smithtown | NY
Consumer Mortgage Corp | Brentwood | TN
Continental Financing Company | Schaumburg | IL
Continental Funding Corp | Bloomingdale | IL
Cornell Fingerlakes Credit Union | Ithaca | NY
Cornerstone Mortgage Corp | Denver | CO
Corporate Capital Financial Inc | Cerritos | CA
Cosmos Mortgage Corporation | Annandale | VA
Covenant Mortgage Inc | Gun Barrel City | TX
Covenant Mortgage Inc | Norman | OK
Creative Financing Group | Oxford | MI
Creative Mortgage and Equity Corp | Calumet City | IL
Creative Mortgage Financial Corporation | Lincolnwood | IL
Crest Savings Bank SLA | Wildwood Crest | NJ
Crusader Bank | Philadelphia | PA
Cumanet Inc | West Paterson | NJ
Custom Financial Services Inc | Longwood | FL
Custom Funding LLC | Westport | CT
Custom Home Mortgage LLC | Gilbert | AZ
CVT Properties Inc DBA Prime Financial | Costa Mesa | CA
CW Financial Inc | Dana Point | CA
D and D Funding Inc | Montebello | CA
D and K Ventures Inc | Helena | MT
Dakota State Bank | Sioux Falls | SD
Dana Gunn Financial Srvs Inc | San Diego | CA
Darwal Corporation | Oxnard | CA
Development Bank | American Samoa | HI
Diablo Mortgage Company | Walnut Creek | CA
Diversified Lending Services | Broomfield | CO
Dolphin Mortgage Service Inc | West Dundee | IL
Dominion Mortgage Group Inc | Indianapolis | IN
Dominion Savings Bank FSB | Front Royal | VA
Dual Mortgage Corporation | Coral Gables | FL
Dynamic Mortgage Financial Corp | Garden Grove | CA
Dynex Healthcare Inc | Glen Allen | VA
Eagle Financial Funding Group Inc | San Clemente | CA
East Bay Mortgage Inc | Gig Harbor | WA
East Side Bank Trust | Oak Forest | IL
East West Financial Corp | Margate | FL
Eastern Hgts State Bank St Paul | St Paul | MN
Elite Mortgage Group Inc | Woodstock | GA
Emmco The Mortgage Service Station | Lexington | SC
E-Mortgage Inc | York | PA
Empire Mortgage Group Inc | Margate | FL
Empire Mortgage Guarantee Corporation | Hollywood | FL
Enchantment Mortgage Inc | Santa Fe | NM
ENM Mortgage Inc | Downey | CA
Entrust Mortgage Headquarters | Gaithersburg | MD
Epic Mortgage Inc | Tigard | OR
Equilend Group Inc | Lake Forest | CA
Equity Financial Services | Little Rock | AR
Equity Rewards Mortgage Inc | Parsippany | NJ
Equivantage Inc | Houston | TX
Evergreen Mortgage Corporation | Grand Rapids | MI
Excmort Corporation | San Jose | CA
Executive Mortgage | Baton Rouge | LA
Executive Mortgage Corp | Fargo | ND
Executives Mortgage Group Inc | Littleton | CO
EZ Mortgage Services Co Inc | Florissant | MO
Fairway Financial Co | Austin | TX
Fairway Mortgage Services Inc | Moorestown | NJ
Faith Financial Services | Woodland Hills | CA
Farmers and Merchants Bank | Miamisburg | OH
Farmers and Merchants Natl Bank Bridgetn | Bridgeton | NJ
Farmers and Merchants State Bank | Virden | IL
Farmers Bank and Trust Company | Henderson | KY
FAS Nationwide Mortgage Services Inc | Newport Beach | CA
Fassett and Finucane Mortgage Serv Inc | Chicago | IL
Fayetteville Mortgage Company Inc | Fayetteville | NC
FCF Mortgage Corporation | Aliso Viejo | CA
FDB Mortgage Inc | Hunt Valley | MD
Feather River State Bank | Yuba City | CA
Federal Savings Bank | Rogers | AR
Fenix Mortgage Inc | Downey | CA
Fidelity National Mortgage Corp | Atlanta | GA
Fidelity State Bank | Garden City | KS
Finance Plus Mortgage Corp | Buena Park | CA
Financial Associates Inc | Lake Oswego | OR
Financial Trust Mortgage Corp | Miami | FL
Finlay Financial Corporation | Los Angeles | CA
First Accord Financial Inc | Mason | OH
First American Capital Mortgage Corp | Longwood | FL
First American Home Mtg | Columbia | SC
First American Mortgage Company | Mesa | AZ
First and Farmers Bank | Portland | ND
First and Farmers Bank Somerset | Somerset | KY
First Associated Mortgage Inc | Towson | MD
First Bank and Trust | Grooves | TX
First Bank and Trust | Jackson | AL
First Bank Florida | West Palm Beach | FL
First Boston Mortgage Corp | Woburn | MA
First Capital Group Inc | Miami | FL
First Carolina Federal Savings Bank | Kings Mountain | NC
First Central Bank NA | Cerritos | CA
First Chesapeake Funding Corp | Sunrise | FL
First City Financial Corp | Englewood | CO
First Coast Community Bank | Fernandina Beach | FL
First Colonial Mortgage Inc | Sherman | TX
First Colonial Mortgage of NJ Inc | Linden | NJ
First Commerce Bank | Logan | UT
First Commonwealth Bank | Prestonsburg | KY
First Community Bank and Trust | Cartersville | GA
First Consumers Mortgage Corp | Walnut Creek | CA
First Equitable Mortgage Corp | Annandale | VA
First Equity Lenders Incorporated | West Palm Beach | FL
First Federal S and L Assoc of San Rafae | San Rafael | CA
First Federated Mortgage Corp | Heath | OH
First Financial and Investment | Cockeysville | MD
First Financial Mortgage Corp | Colorado Springs | CO
First Financial of Boston | Fort Lauderdale | FL
First Home Acceptance Mtg Corp | San Diego | CA
First Keystone Mortgage Inc | Kimberton | PA
First Mortgage Fort Collins Inc | Fort Collins | CO
First National Bank | Hastings | MN
First National Bank | Shenandoah | IA
First National Bank | Chadron | NE
First National Bank | Farmington | NM
First National Bank | Broken Arrow | OK
First National Bank | Weatherford | TX
First National Bank | Bagley | MN
First National Bank | Liberal | KS
First National Bank | Central City | KY
First National Bank and Trust | Osawatomie | KS
First National Bank and Trust | Muskogee | OK
First National Bank of Gaylord | Gaylord | MI
First National Bank of Wetumpka | Wetumpka | AL
First National Bank Ogallala | Ogallala | NE
First National Funding Group | West Covina | CA
First Quality Mortgage Inc | Charlotte | NC
First Security Bank—Roundup | Roundup | MT
First Southern Natl Bank | Richmond | KY
First State Bank | Manchester | IA
First State Bank | Dumas | TX
First Sterling Financial Inc | Mount Laurel | NJ
First Suburban Corporation | Santa Ana | CA
First Western Bank Na | New Castle | PA
First Western Mortgage Co of Amer Inc | Ebglewood | CO
Firstline Funding Inc | Irvine | CA
Firstregional Mortgage | Florence | SC
Flagship Capital Services Corp | Sacramento | CA
Flagstar Bank FSB | Jackson | MI
Fletcher Hills Financial | La Mesa | CA
FNB Funding Inc | Daytona Beach | FL
Fort Bend Federal Savings ALA | Rosenberg | TX
Forum Express Home Loans | Laguna Hills | CA
Founders Mortgage Co Inc | Columbia | MD
Four Counties Mortgage Inc | Fresno | CA
Four Star Mortgage LTD | Dallas | TX
Fox Chase Federal Savings Bank | Philadelphia | PA
Franklin Mortgage and Investment Co Inc | Pueblo | CO
Freeport Financial Group Inc | Westlake Village | CA
Fremont Bank | Fremont | CA
Friendly Hills Mortgage Corp | Waittier | CA
Front Range Home Mortgage Inc | Colorado Springs | CO
FSI Mortgage Inc | Bloomington | MN
Future Financial Mortgage Corp | Citrus Heights | CA
G A Investments Inc | Corona | CA
G I Funding Inc | Bellflower | CA
Garnet Holdings Inc | Baton Rouge | LA
Gelt Financial Inc | Southampton | PA
General Mortgage Acceptance Corp | Orange | CA
General Mortgage Corporation | Honolulu | HI
GFC Corporation | Tustin | CA
Gibraltar Savings Bank SLA | Newark | NJ
Gilmer Savings Bank FSB | Gilmer | TX
Glendora Mortgage Inc | Glendora | CA
Global Holdings I LLC | Bellevue | WA
Globalnet Funding Corp | Montclair | CA
Golden Key Mortgage | Modesto | CA
Golden State Mortgage Capital Inc | Danville | CA
Golden State Mortgage Colorado Inc | Denver | CO
Golden State Mortgage Corp | San Jose | CA
Goldpoint Mortgage Bankers Inc | Great Neck | NY
Goldstar Financial Inc | Sanford | FL
Goodrich Mortgage Inc | Newport Beach | CA
Grand Haven Bank | Grand Haven | MI
Granite Mortgage Corp | Springfield | VA
Grant Mortgage Services Inc | Tampa | FL
Grayco of Arkansas Inc | Little Rock | AR
Great American Capital Corp | Costa Mesa | CA
Great American MTG Inc Utah | Salt Lake City | UT
Great Eastern Financial Services | Atlanta | GA
Great Five Percent Real Est Co | Covina | CA
Great Home Mortgage Corporation | Lombard | IL
Great Southwest MTG Corp | Phoenix | AZ
Great Western Thrift and Loan | Salt Lake City | UT
Greater Chicago Mortgage Corp | Tinley Park | IL
Greater Financial Corp | Hialeah | FL
Greater Pacific Northwest Corp | Estacada | OR
Green River Mortgage Corp | Houston | TX
Greenwich Mortgage Corporation | Providence | RI
Gretna State Bank | Gretna | NE
Guaranty Funding Mortgage Group LTD | Centerville | OH
Guthrie Federal Savings Bank | Guthrie | OK
Guy Financial Inc | La Verne | CA
GW Financial Services Inc | Costa Mesa | CA
Gwinnett Banking Company | Lawrenceville | GA
Hacienda Lenders Inc | Murrietta | CA
Hamilton Midwest Mortgage Inc | Eden Prairie | MN
Hamilton Mortgage Partners LLC | Huntsville | AL
Hanmi Realty Inc | Los Angeles | CA
Hanover Capital Mortgage Corp | New York | NY
Harbourton Reassurance Inc | Philadelphia | PA
Harlingen National Bank | Harlingen | TX
Hartford Carlisle Savings Bk | Carlisle | IA
Hawthorne Savings and Loan | El Segundo | CA
Hearthside Lending Corp | Gladstone | MO
Heartland Financial Corporation | Fort Lauderdale | FL
Heartland Mortgage Corporation | Tulsa | OK
Help U Save Inc | Manteca | CA
Hemet Federal Savings ALA | Hemet | CA
Heritage Bank | Marion | IA
Heritage Bank | Red Oak | TX
Heritage Financial Group LLC | Indianapolis | IN
Heritage Mortgage LTD Co LLC | Albuquerque | NM
Heritage Olympia Bank | Chicago Heights | IL
HFG Mortgage Corporation | Dallas | TX
Hillcrest Mortgage Inc | Rancho Cucamonga | CA
Hmc-Home Mortgage Consultants | Houston | TX
Holland Mortgage Corp | Cartersville | GA
Home America Financial Inc | Orange | CA
Home Improvement Mortgage Inc | Phoenix | AZ
Home Loans Limited of Georgia | Columbus | GA
Home Mortgage Acceptance Corp | New York | NY
Home State Bank and Trust Co | McPherson | KS
Homebuyers Financial Corp | Coconut Creek | FL
Homeland Financial Corp | Marietta | GA
Homesave Mortgage Corporation | Fullerton | CA
Homesense Financial Corporation | Lexington | SC
Homesource Mortgage Inc | Buford | GA
Homesouth Mortgage Corporation | Atlanta | GA
Homesouth Mortgage Inc | Clarksville | TN
Homespace Services Inc | Pasadena | CA
Horizon Bank—Florida | Pensacola | FL
Horizon Bank Savings Bank | Bellingham | WA
Horizon Investments Inc | San Diego | CA
Horizon Residential Lending | Rancho Cordova | CA
HTJ Brokerage | Los Angeles | CA
Hughes Aircraft Employees Federal CU | Manhattan Beach | CA
Idaho Company | Boise | ID
Illinois Mortgage Services Inc | Oak Park | IL
Impact Mortgages Inc | Cape Coral | FL
Independence Bank Kentucky | Livermore | KY
Independent Bankers Bank of FL | Lake Mary | FL
Infinity Capital | Costa Mesa | CA
Innovative Financial Services | Honolulu | HI
Insight Mortgage Services | San Diego | CA
Interbank New York | Astoria | NY
International Lending Unlimited Inc | Miami | FL
International Millennium Group | Bell | CA
International Mortgage Ctr Inc | Garden City | NY
Investaid Corporation | Birmingham | MI
Investors Lending Inc | Fresno | CA
Investors Mortgage Corp | Columbia | MD
Iron Workers Dist Council S OH | Vandalia | OH
J D Capital Corp | Huntington Beach | CA
Jandel Group LLC | Scottsdale | AZ
Jefferson Bank | Downingtown | PA
Jeffrey Weiner Corporation | Fort Lauderdale | FL
Jes Investments Ltd | Columbia | MS
JL Mortgage Company | Columbia | SC
JL Nunn Inc | Pueblo | CO
Jonathan Funding Group Inc | Sherman Oaks | CA
JRM Investment Corp | Brunswick | GA
JZ Mortgage Inc | Walnut Creek | CA
KGW Corporation | Lake Forest | CA
Kingsland Funding Corp | New York | NY
Kingsway Mortgage Corp | West Covina | CA
Kit Albert Inc | Woodland Hills | CA
Kittitas Valley Bank | Ellensburg | WA
Kmg Mortgage Services Inc | Mission Viejo | CA
Laffranchini Financial Corp | Palm Desert | CA
Lake Shore Savings and Loan Association | Dunkirk | NY
Lakeview Mortgage Depot Inc | West Paterson | NJ
Lancorp Financial Network Inc | Lancaster | PA
Landis Mortgage Financing Inc | Davie | FL
Landmark Financial Services Inc | Plano | TX
Lasalle Bank NA | Chicago | IL
Laswell Inc | Cerritos | CA
Leapfrog Financial LLC | Brighton | CO
Ledoux Investments Inc | Rancho Cucamonga | CA
Legacy Mortgage Corporation | Indianapolis | IN
Legend Financial Group Inc | San Diego | CA
Legendary Capital Inc | Dallas | TX
Lenders Direct Mortgage Co | Sarasota | FL
Lenders Financial Services Inc | Ft Lauderdale | FL
Lenders MD Inc | Amherst | OH
Lending Group Of So Florida | Stuart | FL
Levitt Mortgage Corporation | Boca Raton | FL
Liberty Mortgage Finance Ser | Fort Lauderdale | FL
Lincoln Mortgage LLC | Schaumburg | IL
Linksters Financial Group Inc | Santa Rosa | CA
Local America Bank Tulsa FSB | Tulsa | OK
LP California Mortgage Inc | Newport Beach | CA
LRS Inc | Campbell | CA
Luxor Financial LTD | Los Alamitos | CA
M and I First National Bank | West Bend | WI
M and I Merchants Bank | Rhinelander | WI
Madison Square Federal Savings Bank | Baltimore | MD
Main Street Mortgage Services | Saddle Brook | NJ
Majestic Mortgage Inc | Winter Park | FL
Mandrell Mortgage | Las Vegas | NV
Mapleleaf Mort Corp | Lutherville | MD
Marathon Home Lending | Tustin | CA
Marble George and McGinley Inc | Orange | CA
Mariner Mortgage Inc | Seattle | WA
Market America Mortgage | Tampa | FL
Market Financial Ltd | Chicago | IL
Marshall Mortgage Corporation | Campbell | CA
Marshfield Savings Bank | Marshfield | WI
Marval Mortgage Corporation | Yorktown Hghts | NY
Massachusetts Mortgage Advisory | Braintree | MA
Maximum Output Mortgage Inc | Newport Beach | CA
McLean Mortgage Group Inc | McLean | VA
Meetingplace Mortgage Corp | Windham | NH
Mercantile Bank Dubuque NA | Dubuque | IA
Mercantile Bank of Topeka | Topeka | KS
Mercantile Bank Saint Joseph | Saint Joseph | MO
Merchants National Bank | Aurora | IL
Merit Mortgage Inc | Plano | TX
Metro Mortgage and Financial Srvs | Englewood | CO
Metropolitan Financial Corp | Phoenix | AZ
Metropolitan Mortgage Co | Miami | FL
Metrotrust Financial Corporation | Santa Ana | CA
MFJ Inc | Clifton Park | NY
MFK Financial Corp | San Francisco | CA
Miami Mortgage Center Corp | Miami | FL
Michigan Mortgage Lenders Corp | Bloomfield Hills | MI
Mid Coast Inc | San Luis Obispo | CA
Mid Rivers Holding Inc | Earth City | MO
Mid State Mortgage Company Inc | Columbia | SC
Midtown Mortgage Corporation | Cleveland | OH
Midwest Savings Bank | Bolingbrock | IL
Mill River Mortgage | Weymouth | MA
Millcreek Mortgage Co | Bountiful | UT
Millennium Mortgage Corp | West Palm Beach | FL
Mirage Financial Services | North Miami Beach | FL
Mitchell Financial Ser Inc | Tucson | AZ
MNC Mortgage Servicing | Memphis | TN
Monaco Funding Inc | Las Vegas | NV
Monarch Mortgage Inc | Northampton | MA
Moneyland Corporation | Baton Rouge | LA
Moneysource Inc | Portland | OR
Monicor Mortgage | Santa Ana | CA
Morgan Federal Bank | Fort Morgan | CO
Mortgage Acceptance Corp Inc | Murfreesboro | TN
Mortgage Alliance Network Inc | Moreno Valley | CA
Mortgage Capital Finan Service | Calverton | MD
Mortgage Club Inc | Los Angeles | CA
Mortgage Company Inc | Hillside | IL
Mortgage Coordinators Inc | Upland | CA
Mortgage Corporation of America | Southfield | MI
Mortgage Development Company | Longmont | CO
Mortgage Dynamics Inc | Deerfield Beach | FL
Mortgage Embassy Corporation | Miami | FL
Mortgage Express | Palm Beach Gardens | FL
Mortgage Financial Group of Florida | Fort Lauderdale | FL
Mortgage Funding Network Inc | Atlanta | GA
Mortgage Guaranty Corp | Jackson | MS
Mortgage Lending Corporation | Evergreen Park | IL
Mortgage Market Inc | St Augustine | FL
Mortgage Masters Inc | Lake Oswego | OR
Mortgage Masters Investors Inc | Miami | FL
Mortgage One Corporation | Hesperia | CA
Mortgage One Inc | Portland | OR
Mortgage Plus Equity and Loan Corp | Melville | NY
Mortgage Shoppe Inc | Guntersville | AL
Mortgage Solutions New Jersey | Pennington | NJ
Mortgage Store Inc | Kihei | HI
Mortgage Team Inc | Northfield | NJ
Mortgageline Funding Corp | Bend | OR
Mortgagelink Inc | Newport Beach | CA
Mountain National Bank | Woodland Park | CO
Mutual Savings Bank FSB | Bay City | MI
NAREB Investment Division Inc | Oakland | CA
NATCAP Financial Inc | Chevy Chase | MD
National Bank and Trust Co | Chariton | IA
National Bank of Commerce | Tuscaloosa | AL
National Bank of Commerce | Berkeley | IL
National Bank of SC | Charleston | SC
National Bank Redwoods NA | Santa Rosa | CA
National Express Mortgage Corp | La Palma | CA
National Funding Service Inc | Medford | OR
National Mortgage Acceptance | Fort Lauderdale | FL
National Mortgage Lending Inc | Irvine | CA
National Mortgage Services Inc | St Louis | MO
National Realty Funding LC | Kansas City | MO
Nations Mortgage Corporation | Winter Springs | FL
NationsCredit Home Equity Srvs Corp | Irving | TX
Nationwide Financial Corp | Burke | VA
Nationwide Funding Corporation | Chicago | IL
Navy Orlando Federal Credit UN | Orlando | FL
NBGI Inc | Los Angeles | CA
NEFWIN Mortgage Group Ltd | Oak Brook | IL
Neighborhood HSG Serv of Santa Fe Inc | Santa Fe | NM
Neighborhood National Bank | San Diego | CA
Network Financial Group Inc | Miami | FL
Network Resources Inc | Austin | TX
Nevada Mortgage Express LLC | Reno | NV
New Hampshire Fed Credit Union | Concord | NH
New Hope Funding | Ontario | CA
New Jersey Mortgage Inv Corp | Roseland | NJ
New West Financial Services Inc | Covina | CA
New West Mortgage Corp | Fort Worth | TX
Newport Shores Financial Inc | Aliso Viejo | CA
Nexus Financial LLC | Oakland | NJ
NME National Mortgage Executives Inc | Scottsdale | AZ
Noble Mortgage Co Inc | Allentown | PA
Nordstrom Leiren and Associates | Kirkland | WA
North Country Savings Bank | Ogdensburg | NY
North County Bank | Escondido | CA
North Shore Bank | Peabody | MA
North Texas Home Loans Inc | Denton | TX
North Valley Bank Redding | Redding | CA
Northeastern Mortgage Investment Corp | Tarrytown | NY
Northern Trade Mortgage Corp | Miami | FL
Northwest Savings Bank | Amery | WI
Norwalk Cumming State Bank | Norwalk | IA
Oak Hills Savings and Loan Co | Cincinnati | OH
Ocean Bank of Miami | Miami | FL
Oceanside Christopher Fed Cr Un | Oceanside | NY
Old Century Mortgage Corp | Los Angeles | CA
Old City Mortgage | Covina | CA
Old Pioneer Mortgage Company of Ohio Inc | Sharonville | OH
Old Redwood Mortgage Company | Santa Rosa | CA
Omega Mortgage Corporation | Jefferson | OH
One Stop Mortgage Inc | Irvine | CA
Opportunity Mortgage Corporation | Charlotte | NC
Option Home Lending Inc | Chicago | IL
Oriental Mortgage Corp | Rio Piedras | PR
Orion National Equity Corp | Irvine | CA
Owners Equity Mortgage Corp | Tarpon Springs | FL
Pacesetter Bank | Hartford City | IN
Pacific Colonial Funding LP | San Diego | CA
Palomar Savings Loan Assn | Escondido | CA
Paradigm Mortgage Associates Inc | Jacksonville | FL
Paramount Mortgage Corporation | Beltsville | MD
Paris National Bank | Paris | MO
Park Place Financial Inc | Lombard | IL
Passumpsic Savings Bank | Saint Johnsbury | VT
Patrick Marketing Group Inc | Las Vegas | NV
Paxin Mortgage Company | Oklahoma City | OK
Peach Plus Financial Inc | Atlanta | GA
Pee Dee State Bank | Timmonsville | SC
Peoples Bank | Dickson | TN
Peoples Bank of North Alabama | Cullman | AL
Peoples Bank of Pt Pleasant | Pt Pleasant | WV
Peoples Bank Winder | Winder | GA
Peregrine Financial Services Inc | San Ramon | CA
Performance Plus Mortgage Corp | Tucson | AZ
Pierbank | Narragansett | RI
Pierucci Inc | Glen Mills | PA
Pikes Peak Mortgage Company | Colorado Springs | CO
Pinnacle Bank | Oak Park | IL
Pioneer Bank | Munfordville | KY
Positive Mortgage Inc | New York | NY
Poughkeepsie Savings Bank FSB | Poughkeepsie | NY
Power Funding Group Inc | Williamsville | NY
Prairie Financial Company Inc | Artesia | CA
Precision Financial Inc | Tustin | CA
Preferred Funding Corp II | Fort Lauderdale | FL
Preferred Home Credit Corp | Murray | UT
Preferred Lending Services | Colorado Springs | CO
Preferred Mortgage Corporation | Marlton | NJ
Preferred Mortgage Source Inc | Peachtree City | GA
Premier National Bank Dalton | Dalton | GA
Presidential Mortgage Corporation | Birmingham | AL
Pridefinancial Services LP | Greenwood Village | CO
Prime Bank | Philadelphia | PA
Prime Bank | Houston | TX
Principal Mutual Life Ins Co | Des Moines | IA
Priority Mortgage Corporation | Holladay | UT
Procapital Funding Corporation | Bethesda | MD
Professional American Mort Institute Inc | Sunrise | FL
Professional Financial Group Inc | Auburn | WA
Professional Home Team Mortgag | Dallas | TX
Proficient Financial Services | Countryside | IL
Profile Bank FSB | Rochester | NH
Prosource Mortgage Corp | Avon | CO
Provident Savings Bank FA | Montebello | NY
Pt Ilta Karya Investment Inc | Hacienda Heights | CA
Public Service Credit Union | Detroit | MI
Pullman Bank and Trust | Chicago | IL
Pulse Savings Bank | South River | NJ
Quest Mortgage | Santa Fe | NM
R A Grantz Financial Inc | Schaumburg | IL
R and G Lending Inc | Cypress | CA
R M S Inc | Saint Peters | MO
Rainbow Services Company LLC | Washington | DC
Ramsey Bank | Cando | ND
RE Mortgage Group Inc | Anaheim Hills | CA
Realco Funding and Properties | Los Angeles | CA
Refco Mortgage-Financial Services Inc | Chicago | IL
Regency Bank | Fresno | CA
Regency Financial Corporation | Lake Worth | FL
Reliance Federal Savings Bank | Garden City | NY
Rengar Mortgage Inc | Downey | CA
Republic Bank California NA | Beverly Hills | CA
Republic Home Loan Corp | Los Gatos | CA
Republic Mortgage Funding Inc | Miami Lakes | FL
Republic National Bnk of Miami | Coral Gables | FL
Request Mortgage of Tulsa Inc | Tulsa | OK
Reserve Lending Network | Homewood | IL
Residential Funding Group | Tucker | GA
Residential Lending Professionals LLC | Sacramento | CA
Residential Mortgage Corporation | Las Vegas | NV
Resource Financial Services Inc | Anaheim Hills | CA
Resource One Consu Disc Co Inc | Langhorne | PA
Revird Corporation | Santa Fe Springs | CA
Richard and Mike's Calabasas Realty | Calabasas | CA
Richmond Bank | Richmond | IL
Riverside Home Mortgage | Provo | UT
Riviera Mortgage LLC | Atlanta | GA
RJ Financial Services Inc | Arlington Heights | IL
RKL Mortgage Service Inc | Newport Beach | CA
RLE Financial Corporation | Elk Grove | CA
Rock Island Bank | Rock Island | IL
Roseville First Natl Bank | Roseville | CA
Roussel Financial Mortgage Corp | Reno | NV
Royal American Bank | Inverness | IL
Royal Star Two Thousand Mtg | Boynton Beach | FL
RTM Group Inc | San Ramon | CA
Salomon Brothers Realty Corp | New York | NY
Samuel C Ennis | Hammond | IN
Sanford Barnette and Assoc Inc | Bossier City | LA
Savings Bank of Mendocino County | Ukiah | CA
Savings Mortgage and Loan Inc | Denver | CO
Scenic Mortgage Co | Chattanooga | TN
Seaboard Employees Credit Union | Jacksonville | FL
Seaboard Funding Group Inc | Covina | CA
Seascape Finance Inc | Vero Beach | FL
Security Federal Savings Bank | Logansport | IN
Security First Funding | Williamsburg | VA
Security Mortgage Company | Englewood | NJ
Security Mortgage Corporation | Jackson | MS
Security National Bank San Antonio | San Antonio | TX
Security State Bank | Polson | MT
Security State Mortgage | American Fork | UT
Select Mortgage Services LLC | Richmond | VA
Service First Mortgage Inc | Oxford | GA
Seven Eleven Funding Corp | Orange | CA
Sierra Mountain Mortgage Inc | Truckee | CA
Sierra National Bank | Tehachapi | CA
Silver Lake Mortgage | Everett | WA
Silverback Mortgage Inc | Los Angeles | CA
Skyview Credential Mortgage | Covina | CA
SMS Finance Incorporated | Kokomo | IN
SN and Associates Inc | Aiea | HI
Socal Financial Group Inc | San Diego | CA
South Bergen Savings and Loan Assn | Wood Ridge | NJ
South Equity Mortgage Corporation | Delray Beach | FL
South State Mortgage Inc | Alpharetta | GA
South States Mortgage Corp | Birmingham | AL
Southeast Bankers Mortgage Corporation | Miami Beach | FL
Southeastern Mortgage Brokers Inc | Alpharetta | GA
Southern Financial Mortgage Inc | Brentwood | TN
Southern Lakes Credit Union | Kenosha | WI
Southwest Lending LLC | Phoenix | AZ
Southwest Reserve Inc | Las Vegas | NV
Southwest State Bank | Windom | MN
Specialty Mortgage Services Corporation | Bedford | TX
Specprop Inc dba Vantage Mortgage Serv | Oceanside | CA
Spring Valley Bank | Wyoming | OH
ST Edmonds Federal SB | Philadelphia | PA
ST Louis Community Credit Union | ST Louis | MO
Star Mortgage Corporation | Austin | TX
Statewide Lending Center Inc | Coral Springs | FL
Sterling Lending Corporation | Baton Rouge | LA
Sterling Mortgage Group LLC | Loveland | CO
Sterling Savings Bank | Chicago | IL
Stoneridge Mortgage Corporation | San Diego | CA
Stratus Enterprises Inc | Bellevue | WA
Strongsville Savings Bank | Strongsville | OH
Summit Mortgage Services | Southfield | MI
Sun Group Enterprises LTC | Schuylerville | NY
Sun Mortgage Company Inc | Cherry Hill | NY
Sun Mortgage Consultants Inc | Fort Myers | FL
Suncoast Financial Mortgage | Chula Vista | CA
Sundial Mortgage Corporation | Juno Beach | FL
Sunstate Mortgage Inc | Daytona Beach | FL
Superior Service Mortgage Corp | Riverside | CA
Swiss Re Life and Health America Inc | New York | NY
Swissbanc Mortgage Corporation | Chicago | IL
Sydney Investments Inc | Redding | CA
T and F Mortgage Inc | El Cajon | CA
T G Mortgage Inc | Aliso Viejo | CA
Tennessee Mortgage Corporation | Lavergne | TN
Texas Financial Corporation | Austin | TX
Texas Homeplace Financial Corporation | New Braunfels | TX
The Co-Operative Bank | Roslindale | MA
The GM Group Inc | Dallas | TX
The-Trust Deed Corporation | Laguna Niguel | CA
Thompson Mortgage Services Inc | Bentonville | AR
Three Rivers Bank and Trust Co | Mckeesport | PA
Thunder Funding LTD Co | Albuquerque | NM
Time Deposits International Inc | Van Nuys | CA
TNT Financial Inc | Chino | CA
Tower Financial Group Inc | Cranston | RI
Tower Mortgage Inc | Bellevue | WA
Town and Country Mortgage Inc | Elk River | MN
Transcapital Mortgage LLC | Kirkland | WA
Treatment Capital Mortgage Inc | West Monroe | LA
Trident Services | St George | UT
Trinity Home Mortgage | Boise | ID
True Rate Mortgage | Layton | UT
Truong and Company Inc | Canoga Park | CA
Tutle Inc | Brooklyn | NY
Tyler Bank and Trust NA | Tyler | TX
U S E Community SVCS Group Inc | Downey | CA
US Savings Bank | Las Vegas | NV
Ultima Bank Minnesota | Fosston | MN
UMASS Five College Fed CR Un | Amherst | MA
Unified Resource Group LLC | Marietta | GA
Union Bank Benton | Benton | AR
Union Building Corp Detroit | Detroit | MI
Union Chartered Corporation | Oakland | CA
Union Labor Life Insurance Co | Washington | DC
United American Mortgage Co LLC | Cordova | TN
United Building Trades Fed Credit Union | Rapid City | SD
United California Lenders Corp | Aliso Viejo | CA
United Midwest Savings Bank | Degraff | OH
United Mortgage Company | Johnston | RI
United Mortgage Company of Idaho Inc | Boise | ID
United Mortgage Investors Inc | Miami | FL
United Mortgagee Inc | Virginia Beach | VA
University Credit Union | Orono | ME
US Bank Trust NA | San Francisco | CA
US Financial Inc | Altamontae Springs | FL
Vanguard Financial Company | Cincinnati | OH
Vanleeuwen Pye and Associates | San Diego | CA
Vasquez Mims and Associates Inc | San Diego | CA
Venture Mortgage LLC | Phoenix | AZ
Vermont Federal Credit Union | Burlington | VT
Vermont National Bank | Brattleboro | VT
Veteran Mortgage Inc | Mountain Lake Terr | WA
Vickery Mortgage Corporation | Montgomery | AL
Viking Bank | Moorhead | MN
Vineyard National Bank | Rancho Cucamonga | CA
Virgin Valley Credit Union | Mesquite | NV
Vista Capital Funding Inc | Bethesda | MD
Walden Federal Savings and Loan Assn | Walden | NY
Walden Savings Bank | Walden | NY
Wall Street Funding Group Inc | Rancho Cucamonga | CA
Wall Street Mortgage Group Inc | Boca Raton | FL
Washington Federal Savings Bank | Washington | PA
Watson Financial Inc | Scottsdale | AZ
Western Alliance Mortgage LP | Katy | TX
Western Bank | Alamogordo | NM
Westmark Mortgage Corporation | Boca Raton | FL
Westview Financial Co Inc | San Jose | CA
Westwind Mortgage Corp | Phoenix | AZ
Wholesale Financial Mortgage Corporation | Schamburg | IL
Wohletz Enterprises Inc | Kirkland | WA
Woodmont Mortgage Corp | Bethesda | MD
World Mortgage Corp | Boca Raton | FL
Worldwide Capital Corporation | Westchester | IL
Yampa Valley National Bank | Hayden | CO
Yorktown Homes | Fullerton | CA
Zata Inc | Westlake Village | CA

Dated: July 9, 2001.
John C. Weicher,
Assistant Secretary for Housing-Federal Housing Commissioner, Chairman Mortgagee Review Board.

[FR Doc. 01-18442 Filed 7-24-01; 8:45 am]

BILLING CODE 4210-27-P